NATIONAL SCIENCE FOUNDATION

Notice of Permit Applications Received Under the Antarctic Conservation Act of 1978 (Pub. L. 95-541)

AGENCY: National Science Foundation.

ACTION: Notice of Permit Applications Received under the Antarctic Conservation Act of 1978, (Pub. L. 95-541), as amended by the Antarctic Science, Tourism and Conservation Act of 1996 (Pub. L. 104-227).

SUMMARY: The National Science Foundation (NSF) is required to publish a notice of permit applications received to conduct activities regulated under the Antarctic Conservation Act of 1978. NSF has published regulations under the Antarctic Conservation Act at title 45 part 670 of the Code of Federal Regulations. This is the required notice of permit applications received.

DATES: Interested parties are invited to submit written data, comments, or views with respect to this permit application by October 22, 2015. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Polly A. Penhale, Environmental Officer, at the above address or ACApermits@nsf.gov or (703) 292-7149.

SUPPLEMENTARY INFORMATION: The National Science Foundation, as directed by the Antarctic Conservation Act of 1978 (Public Law 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2015-012

1. Applicant: Dr. Stephanie Jenourvrier, Woods Hole Oceanographic Institution, Woods Hole, MA 02453.

Activity for Which Permit is Requested: The applicant intends to collect a multi-scale and temporal baseline data set on the largest cluster of Adelie penguin breeding colonies in the Antarctic Peninsula (AP). The area near the Danger Islands in the Weddell Sea (eastern AP) may account for half of the total breeding population of Adelie penguins in the AP, yet these colonies are little known. Penguin population shifts have been documented in the western AP and this study will help reduce uncertainty for the eastern AP populations.

Take, Import, Enter Antarctic Specially Protected Areas: The applicant intends to obtain small samples of blood, tissue, feathers, and eggshells from Macaroni, Gentoo, Chinstrap, and Adélie penguin colonies the Antarctic Peninsula. Organic remains in soil samples will also be collected. Samples taken at the sites will be sent back to the United States and the United Kingdom for analysis. The breeding sites will be censused by ground or by a hexacopters-based aerial photography system.

Location: The focus of the study is the penguin colonies in the Danger Islands, Antarctic Sounds, Antarctic Peninsula. Should weather conditions preclude this area, the focus will shift to Elephant Island and vicinity, Low Island and vicinity and/or the South Shetland Islands. Visits may include the following ASPA's: ASPA No. 151, Lions Rump, King George Is; ASPA No. 126, Byers Peninsula, Livingston Island; ASPA No. 152, West Bransfield, Low Island; ASPA No. 132, Potter Peninsula; ASPA No. 128, West Admiralty Bay; ASPA No. 150, Ardley Island; ASPA No. 133, Harmony Point; and ASPA No. 149, Cape Shirreff.

Dates: 1 December 2015 through 30 June 2016.

Nadene G. Kennedy,
Polar Coordination Specialist, Division of Polar Programs.

[FR Doc. 2015-24005 Filed 9-21-15; 8:45 am]

BILLING CODE 7555-01-P